NUCLEAR REGULATORY COMMISSION

Notice of Availability of Draft Interim Staff Guidance Document Hlwrs-Isg-03, “Preclosure Safety Analysis—Dose Performance Objectives and Radiation Protection Program”

AGENCY: Nuclear Regulatory Commission.

ACTION: Notice of availability.

FOR FURTHER INFORMATION, CONTACT: Jon Chen, Project Manager, Project Management Branch B, Division of High-Level Waste Repository Safety, Office of Nuclear Material Safety and Safeguards, U.S. Nuclear Regulatory Commission, Washington, DC 20555-0001, Telephone: (301) 415-5526; fax number: (301) 415-5399; e-mail: jcc2@nrc.gov.

SUPPLEMENTARY INFORMATION:

I. Introduction

The Yucca Mountain Review Plan (YMRP) (July 2003, NUREG-1804, Revision 2) provides guidance for U.S. Nuclear Regulatory Commission (NRC) Division of High-Level Waste Repository Safety (HLWRS) staff to evaluate a U.S. Department of Energy (DOE) license application for a geologic repository. NRC has prepared Interim Staff Guidance (ISG) to provide clarifications or refinements to the guidance provided in the YMRP. NRC is soliciting public comments on Draft HLWRS-ISG-03, which will be considered in the final version, or subsequent revisions, to HLWRS-ISG-03.

II. Summary

The purpose of this notice is to provide the public with an opportunity to review and comment on draft HLWRS-ISG-03, which is to supplement the YMRP, for the NRC staff review of consequence estimates for the preclosure safety analysis, and the associated radiation protection program that will be implemented by DOE during geologic repository operations area operations.

This ISG revises Sections 2.1.1.5 and 2.1.1.8 of the YMRP. A sufficient description of the radiation protection program and adequate technical bases for consequence estimates are needed to demonstrate compliance with the performance objectives in Code of Federal Regulations (CFR), Title 10, Part 63 (10 CFR Part 63), and radiation protection requirements of 10 CFR Part 20.

III. Further Information

The documents related to this action are available electronically at NRC's Electronic Reading Room, at http://www.nrc.gov/reading-rm/adams.html. From this site, a member of the public can access NRC's Agencywide Documents Access and Management System (ADAMS), which provides text and image files of NRC's public documents. The ADAMS accession number for the document related to this notice is provided in the following table. If an individual does not have access to ADAMS, or if there are problems in accessing the documents located in ADAMS, contact the NRC Public Document Room Reference (PDR) staff, at 1-800-397-4209, or (301) 415-4737, or by e-mail, at pdr@nrc.gov.

ISG | ADAMS accession number
Draft HLWRS-ISG-03, “Preclosure Safety Analysis—Dose Performance Objectives and Radiation Protection Program” | ML070230090.

These documents may also be viewed electronically, on the public computers located at NRC's PDR, O-1F21, One White Flint North, 11555 Rockville Pike, Rockville, MD 20852. The PDR reproduction contractor will copy documents, for a fee. Comments and questions on draft HLWRS-ISG-03 should be directed to the NRC contact listed below by April 6, 2007. Comments received after this date will be considered if it is practical to do so, but assurance of consideration cannot be given to comments received after this date.

Contact: Sheena Whaley, Nuclear Engineer, Technical Review Directorate, High-Level Waste Repository Safety Division of the Office of Nuclear Material Safety and Safeguards, U.S. Nuclear Regulatory Commission, Washington, DC 20555-0001. Comments can also be submitted by telephone, fax, or e-mail, which are as follows: telephone: (301) 415-7965; fax number: (301) 415-5399; or e-mail: saw2@nrc.gov.

Dated at Rockville, Maryland this 9th day of February 2007.
For the Nuclear Regulatory Commission.
N. King Stablein,
Chief, Project Management Branch B, Division of High-Level Waste Repository Safety, Office of Nuclear Material Safety and Safeguards.

[FR Doc. E7-2803 Filed 2-16-07; 8:45 am]

BILLING CODE 7590-01-P